NUCLEAR REGULATORY COMMISSION

10 CFR Part 71

Packaging and Transportation of Radioactive Material; Announcement of Public Meetings

AGENCY: Nuclear Regulatory Commission.

ACTION: Announcements of public meetings.

SUMMARY: The Nuclear Regulatory Commission (NRC) is conducting two public meetings on June 4 and June 24, 2002, to obtain stakeholder comments on its proposed rule that would revise the NRC's regulations on the packaging and transportation of radioactive material to make them compatible with the latest revision of the International Atomic Energy Agency (IAEA) standards and to codify other NRC-initiated changes. The Department of Transportation (DOT) also published its proposed rule to harmonize its regulations with the same IAEA standards, and will be participating in the meetings. The public is invited to the meetings to discuss the two rules.

DATES: The first meeting will be held on June 4, 2002. The second meeting will be held on June 24, 2002.

ADDRESSES: The June 4, 2002, meeting will be held at the Hyatt Regency, 151 East Wacker Drive, Chicago, Illinois 60601. The June 24, 2002 will be held at U.S. Nuclear Regulatory Commission, Two White Flint North, 11545 Rockville Pike, Rockville, MD 20852, Room: TWFN Auditorium. Written comments on the proposed rule may be submitted at the meetings, or sent by mail to: Secretary, U.S. Nuclear Regulatory Commission, Washington, DC 20555-0001. Attention: Rulemaking and Adjudications Staff. Comments can also be delivered to NRC, 11555 Rockville Pike, Rockville, Maryland, between 7:30 a.m. and 4:15 p.m. on Federal workdays.

You may also provide electronic comments via the NRC's interactive rulemaking website at http://ruleforum.llnl.gov. This site provides the capability to upload comments as files (any format), if your web browser supports that function. For information about the interactive rulemaking website, contact Ms. Carol Gallagher at (301) 415-5905 (e-mail: CAG@nrc.gov).

You may access documents related to this proposed rule via the NRC's rulemaking website at http://ruleforum.llnl.gov. Documents related to this rule may be also examined at the NRC Public Document Room (PDR) located at One White Flint North, 11555 Rockville Pike, Room O-1F23, Rockville, MD. Documents created or received at the NRC after November 1, 1999, are also available electronically at the NRC's Public Electronic Reading Room on the Internet at http://www.nrc.gov/reading-rm/adams.html. From this site, the public can gain entry into the NRC's Agencywide Documents Access and Management System (ADAMS), which provides text and image files of NRC's public documents. For more information, contact the NRC PDR Reference staff at 1-800-397-4209, 301-415-4737, or email to pdr@nrc.gov.

Latest information about the meetings will also be posted at NRC's web site at http://www.nrc.gov; click on “Public Meeting Schedule.”

FOR FURTHER INFORMATION CONTACT: For questions related to the proposed rule, contact: Naiem S. Tanious, Office of Nuclear Materials Safety and Safeguards, Division of Industrial and Medical Nuclear Safety, Rulemaking and Guidance Branch, Mail Stop T9-C24, U.S. Nuclear Regulatory Commission, Washington, DC 20555-0001; telephone: (301) 415-6103; E-mail: NST@nrc.gov. Questions about the public meeting process should be directed to Francis Cameron; Office of the General Counsel, USNRC, Washington DC 20555-0001; E-mail: FXC@nrc.gov; telephone:(301) 415-1642.

SUPPLEMENTARY INFORMATION: On April 30, 2002 (67 FR 21390), the NRC published a proposed rule for revising 10 CFR Part 71 “Packaging and Transportation of Radioactive Material” for compatibility with IAEA transportation standards [TS-R-1], and for making other NRC-initiated changes.

In addition to the compatibility of Part 71 with the IAEA regulations (TS-R-1), this rulemaking would also address, in part, the unintended economic impact of NRC's emergency final rule entitled “Fissile Material Shipments and Exemptions” (February 10, 1997; 62 FR 5907) and a petition for rulemaking submitted by International Energy Consultants, Inc. (PRM-71-12: February 19, 1998; 63 FR 8362).

The Commission is soliciting cost-benefit and exposure data from the public and industry to help quantify the impact of the Part 71 proposed amendments. The NRC believes that this data will assist the Commission in: (1) Making a truly informed decision regarding the proposed IAEA compatibility changes, and (2) avoiding the promulgation of amendments that may result in unforeseen and unintended negative impacts. Specifically, the Commission is soliciting: (1) Quantitative information and data on the cost and benefits which might occur if these proposed changes were adopted; (2) operational data on radiation exposures (increased or decreased) that might occur from implementing the proposed changes; (3) whether the changes are adequate to protect the public health and safety; (4) whether other changes should be considered, including providing cost-benefit and exposure data for these suggested changes; and (5) how should specific risk considerations (i.e., data on what can happen, how likely is it, what are the consequences) be factored into the proposed amendments. For more information on this request for data, please review Section III of the Supplementary Information Section of the April 30, 2002, proposed rule (67 FR 21390).

The NRC is holding public meetings to solicit public comment on this proposed rule in Chicago, Illinois on June 4, 2002, and at the NRC's Offices in Rockville, Maryland on June 24, 2002.

The agenda for the June 4, 2002, meeting is Afternoon Session: 1 p.m.-4 p.m, Open House: 12 noon-1 p.m. Evening Session: 7 p.m.-10 p.m., Open House: 6 p.m.-7 p.m.

The agenda for the June 24, 2002 meeting is 9 a.m.-5 p.m., Open House: 8 a.m.-9 a.m.

The intent of the open house session is to present the opportunity for informal interactions between attendees, both NRC and DOT staff and members of the public.

The first meeting will be conducted as townhall discussions between attending stakeholders representing a broad spectrum of interests that may be affected by this proposed rule and the NRC and DOT staff. The second meeting will be conducted as roundtable discussions among invited participants representing a broad spectrum of interests that may be affected by this proposed rule. The interests in both meetings include the regulated transportation community, non-regulated entities (that may be affected by this proposed rule, e.g. petroleum and mineral industries), citizen and environmental groups, Agreement States, the Department of Energy (DOE), DOT, and other Federal and State Agencies. Although the focus in the second meeting is on the discussions among the invited participants, the meeting is open to the public, and the public is welcome to make comments at the meeting. Individuals interested in participating in roundtable discussions should contact Mr. Cameron (as indicated in the FOR FURTHER INFORMATION CONTACTsection). A list of participants will be available at the meetings.

Dated at Rockville, Maryland, this 16th day of May, 2002.
For the Nuclear Regulatory Commission.
Patricia K. Holahan,
Chief, Rulemaking and Guidance Branch, Division of Industrial and Medical Nuclear Safety, Office of Nuclear Material Safety and Safeguards.

[FR Doc. 02-12991 Filed 5-22-02; 8:45 am]

BILLING CODE 7590-01-P